DEPARTMENT OF TRANSPORTATION

Federal Aviation Administration

14 CFR Part 39

[Docket No. 2001-NE-44-AD]

RIN 2120-AA64

Airworthiness Directives; Hartzell Propeller Inc. Model HC-B3TN-5( ) Propellers

AGENCY: Federal Aviation Administration, DOT.

ACTION: Notice of proposed rulemaking (NPRM).

SUMMARY: The Federal Aviation Administration (FAA) proposes to adopt a new airworthiness directive (AD) that is applicable to Hartzell Propeller Inc. model HC-B3TN-5( ) propellers, with blades part number (P/N) T10176H(B,K)-5 or T10178H(B)-11(R) that are installed on Mitsubishi Heavy Industries, Ltd, MU-2 series airplanes. This proposal would require replacement of those blades with blades of the latest design. This proposal is prompted by a report of in-flight propeller blade separation that caused a severe out-of-balance condition, damage to the airplane, and resulted in engine shutdown and a safe landing. The actions specified by the proposed AD are intended to prevent propeller blade separation, damage to the airplane, and possible loss of the airplane.

DATES: Comments must be received by December 17, 2002.

ADDRESSES: Submit comments in triplicate to the Federal Aviation Administration (FAA), New England Region, Office of the Regional Counsel, Attention: Rules Docket No. 2001-NE-44-AD, 12 New England Executive Park, Burlington, MA 01803-5299. Comments may be inspected at this location, by appointment, between 8:00 a.m. and 4:30 p.m., Monday through Friday, except Federal holidays. Comments may also be sent via the Internet using the following address: 9-ane-adcomment@faa.gov. Comments sent via the Internet must contain the docket number in the subject line. The service information referenced in the proposed rule may be obtained from Hartzell Propeller Inc. Technical Publications Department, One Propeller Place, Piqua, OH 45356; telephone (937) 778-4200, fax (937) 778-4391. This information may be examined, by appointment, at the FAA, New England Region, Office of the Regional Counsel, 12 New England Executive Park, Burlington, MA.

FOR FURTHER INFORMATION CONTACT: Tomaso DiPaolo, Aerospace Engineer, Chicago Aircraft Certification Office, FAA, Small Airplane Directorate, 2300 East Devon Avenue, Des Plaines, IL 60018; telephone (847) 294-7031; fax (847) 294-7834.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NE-44-AD.” The postcard will be date stamped and returned to the commenter.

Availability of NPRM's

Any person may obtain a copy of this NPRM by submitting a request to the FAA, New England Region, Office of the Regional Counsel, Attention: Rules Docket No. 2001-NE-44-AD, 12 New England Executive Park, Burlington, MA 01803-5299.

Discussion

The FAA has received a report of an in-flight blade separation that caused a severe out-of-balance condition, damage to the airplane, and resulted in engine shutdown and a safe landing, on a Mitsubishi MU-2 series airplane. Analysis revealed that the blade, made of (hard alloy) 7076 aluminum alloy, separated due to fatigue failure caused by intergranular corrosion. The service difficulty history to date indicates that this condition is limited to Hartzell propellers installed on Mitsubishi MU-2 series airplanes. This condition, if not corrected, could result in propeller blade separation, damage to the airplane, and possible loss of the airplane.

Manufacturer's Service Information

The FAA has reviewed and approved the technical contents of Hartzell Propeller Inc. Service Bulletin (SB) HC-SB-61-250, Revision 1, dated April 8, 2002, that describes procedures for replacing (hard alloy) 7076 aluminum alloy propeller blades, part number T10176H(B,K)-5 or T10178H(B)-11(R), with (non-hard alloy) 2025 aluminum alloy blades, part number T10176(N)(S)(B,K)-5 or T10178(N)(S)(B)-11(R), respectively. Hard alloy blades are identified by the letter “H” immediately following the blade design number, such as in T10176H.

Differences Between This AD and the Manufacturer's Service Information

Although Hartzell Propeller Inc. SB HC-SB-61-250, Revision 1, dated April 8, 2002, requires propeller blade replacement within 400 flight hours or 2 years from the date of the bulletin, whichever occurs first, this proposal would require propeller blade replacement within 200 flight hours or 1 year from the effective date of the proposed AD, whichever occurs first. The reduction in blade replacement time from the SB has been made to prevent blade failure during the compliance period of this AD. The times are based on an engineering evaluation of the failure rate of hard alloy blades due to intergranular corrosion induced fatigue.

FAA's Determination of an Unsafe Condition and Proposed Actions

Since an unsafe condition has been identified that is likely to exist or develop on other Hartzell Propeller Inc. model HC-B3TN-5( ) propellers of the same type design, the proposed AD would require replacement of propeller blades, part number T10176H(B,K)-5 or T10178H(B)-11(R), with propeller blades part number T10176(N)(S)(B,K)-5 or T10178(N)(S)(B)-11(R), respectively, within 200 flight hours or 1 year from the effective date of this AD, whichever occurs first. The actions would be required to be done in accordance with the service bulletin described previously.

Economic Analysis

There are approximately 250 Hartzell Propeller Inc. model HC-B3TN-5( ) propellers of the affected design in the worldwide fleet. The FAA estimates that 200 propellers installed on airplanes of U.S. registry would be affected by this proposed AD. The FAA also estimates that it would take approximately 10 work hours per propeller to accomplish the proposed actions, and that the average labor rate is $60 per work hour. Required parts would cost approximately $10,000 per propeller. Based on these figures, the total cost of the proposed AD on U.S. operators is estimated to be $2,120,000.

Regulatory Analysis

This proposed rule does not have federalism implications, as defined in Executive Order 13132, because it would not have a substantial direct effect on the States, on the relationship between the national government and the States, or on the distribution of power and responsibilities among the various levels of government. Accordingly, the FAA has not consulted with state authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Hartzell Propeller Inc.: Docket No. 2001-NE-44-AD.

Applicability: This airworthiness directive (AD) is applicable to Hartzell Propeller Inc. model HC-B3TN-5( ) propellers, with T10176H(B)-5, T10176H(K)-5, T10176H-5, T10178H-11, T10178H-11R, T10178H(B)-11, and T10178H(B)-11R, blades that are installed on Mitsubishi Heavy Industries, Ltd, MU-2 series airplanes.

Note 1: The parentheses indicate the presence or absence of an additional letter(s) which vary the basic propeller blade model designation. This AD still applies regardless of whether these letters are present or absent on the propeller blade model designation.

Note 2: This AD applies to each propeller identified in the preceding applicability provision, regardless of whether it has been modified, altered, or repaired in the area subject to the requirements of this AD. For propellers that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Compliance with this AD is required within 200 flight hours or 1 year from the effective date of this AD, whichever occurs first, unless already done.

To prevent propeller blade separation, damage to the airplane, and possible loss of the airplane, do the following:

(a) Remove and replace propeller blades in accordance with paragraphs 3.A. through 3.C.(3) of the Accomplishment Instructions of Hartzell Propeller Inc. Service Bulletin (SB) HC-SB-61-250, Revision 1, dated April 8, 2002.

(b) After the effective date of this AD, do not install any propeller blade removed in accordance with paragraph (a) of this AD, on any airplane.

Alternative Methods of Compliance

(c) An alternative method of compliance or adjustment of the compliance time that provides an acceptable level of safety may be used if approved by the Manager, Chicago Aircraft Certification Office (ACO). Operators must submit their request through an appropriate FAA Principal Maintenance Inspector, who may add comments and then send it to the Manager, Chicago ACO.

Note 3: Information concerning the existence of approved alternative methods of compliance with this airworthiness directive, if any, may be obtained from the Chicago ACO.

Special Flight Permits

(d) Special flight permits may be issued in accordance with §§ 21.197 and 21.199 of the Federal Aviation Regulations (14 CFR 21.197 and 21.199) to operate the airplane to a location where the requirements of this AD can be done.

Issued in Burlington, Massachusetts, on October 10, 2002.
Mark C. Fulmer,
Acting Manager, Engine and Propeller Directorate, Aircraft Certification Service.

[FR Doc. 02-26588 Filed 10-17-02; 8:45 am]

BILLING CODE 4910-13-P